NUCLEAR REGULATORY COMMISSION

[NRC-2016-0121]

Program-Specific Guidance About Special Nuclear Material of Less Than Critical Mass Licenses

AGENCY: Nuclear Regulatory Commission.

ACTION: Draft NUREG; request for comment.

SUMMARY: The U.S. Nuclear Regulatory Commission (NRC) is revising its licensing guidance for a specific license for receipt, possession, use, and transfer of special nuclear material in quantities that are not sufficient to form a “critical mass.” The NRC is requesting public comment on draft NUREG-1556, Volume 17, Revision 1, “Consolidated Guidance About Materials Licenses: Program-Specific Guidance About Special Nuclear Material of Less Than Critical Mass Licenses.” The document has been updated from the original version to include information on safety culture, security of radioactive materials, protection of sensitive information, and changes in regulatory policies and practices. This document is intended for use by applicants, licensees, and the NRC staff.

DATES: Submit comments by March 3, 2017. Comments received after this date will be considered if it is practicable to do so, but the NRC is only able to assure consideration of comments received on or before this date.

ADDRESSES: You may submit comments by any of the following methods (unless this document describes a different method for submitting comments on a specific subject):

• Federal Rulemaking Web site: Go to http://www.regulations.gov and search for Docket ID NRC-2016-0121. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H8, U.S. Nuclear Regulatory Commission, Washington, DC 20555-0001.

For additional direction on obtaining information and submitting comments, see “Obtaining Information and Submitting Comments” in the SUPPLEMENTARY INFORMATION section of this document.

FOR FURTHER INFORMATION CONTACT: Anthony McMurtray, Office of Nuclear Material Safety and Safeguards; U.S. Nuclear Regulatory Commission, Washington, DC 20555-0001; telephone: 301-415-2746; email: Anthony.McMurtray@nrc.gov.

SUPPLEMENTARY INFORMATION:

I. Obtaining Information and Submitting Comments

A. Obtaining Information

Please refer to Docket ID NRC-2016-0121 when contacting the NRC about the availability of information regarding this document. You may obtain publicly-available information related to this action by the following methods:

• Federal Rulemaking Web site: Go to http://www.regulations.gov and search for Docket ID NRC-2016-0121.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737 or by email to pdr.resource@nrc.gov. The draft NUREG-1556, Volume 17, Revision 1, is available in ADAMS under Accession No. ML17012A346.

• NRC's PDR: You may examine and purchase copies of public documents at the NRC's PDR, Room O1-F21, One White Flint North, 11555 Rockville Pike, Rockville, Maryland 20852.

B. Submitting Comments

Please include Docket ID NRC-2016-0121 in the subject line of your comment submission, in order to ensure that the NRC is able to make your comment submission available to the public in this docket.

The NRC cautions you not to include identifying or contact information that you do not want publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that

they do not want to be publicly disclosed in their comment submission. Your request should state that the NRC does not routinely edit comment submissions to remove such information before making the comment submissions available to the public or entering the comment submissions into ADAMS.

II. Further Information

This NUREG provides guidance to existing licensees that receive, possess, use, and transfer special nuclear material of less than critical mass, and to applicants preparing license applications to receive, possess, use, and transfer such materials. This NUREG also provides NRC reviewers criteria for evaluating such a license application. The purpose of this notice is to provide the public an opportunity to review and comment on draft NUREG-1556, Volume 17, Revision 1, “Consolidated Guidance About Materials Licenses: Program-Specific Guidance About Special Nuclear Material of Less Than Critical Mass Licenses.” These comments will be considered in the final version or subsequent revisions.

Dated at Rockville, Maryland, this 18th day of January, 2017.
For the U.S. Nuclear Regulatory Commission.
Daniel S. Collins,
Director, Division of Material Safety, State, Tribal and Rulemaking Programs, Office of Nuclear Material Safety and Safeguards.

[FR Doc. 2017-01808 Filed 1-25-17; 8:45 am]

BILLING CODE 7590-01-P